DEPARTMENT OF ENERGY

10 CFR Parts 429 and 430

[EERE-2020-BT-TP-0012]

RIN 1904-AE49

Energy Conservation Program: Test Procedures for Battery Chargers; Extension of Comment Period

AGENCY: Office of Energy Efficiency and Renewable Energy, Department of Energy.

ACTION: Notice of proposed rulemaking; extension of public comment period.

SUMMARY: On November 23, 2021, the U.S. Department of Energy (“DOE”) published a notice of proposed rulemaking and request for comment proposing to amend the test procedures for battery chargers to improve test procedure representativeness. The document provided a comment period deadline for submitting written comments, data, and information by January 24, 2022. DOE received a joint request from interested parties seeking a 30-day extension of the public comment period. DOE has reviewed this request and is granting an extension of the public comment period for 14 days to allow public comments to be submitted until February 7, 2022.

DATES: The comment period for the proposal published on November 23, 2021 (86 FR 66878) is extended. DOE will accept comments, data, and information regarding this proposal that are received no later than February 7, 2022.

ADDRESSES: Interested persons are encouraged to submit comments using the Federal eRulemaking Portal at www.regulations.gov. Follow the instructions for submitting comments. Alternatively, interested persons may submit comments, identified by docket number EERE-2020-BT-TP-0012, by any of the following methods:

1. Federal eRulemaking Portal: www.regulations.gov. Follow the instructions for submitting comments.

2. Email to: BatteryChargers2020TP0012@ee.doe.gov. Include docket number EERE-2020-BT-TP-0012 in the subject line of the message.

No telefacsimilies (“faxes”) will be accepted.

Although DOE has routinely accepted public comment submissions through a variety of mechanisms, including postal mail and hand delivery/courier, the Department has found it necessary to make temporary modifications to the comment submission process in light of the ongoing COVID-19 pandemic. DOE is currently accepting only electronic submissions at this time. If a commenter finds that this change poses an undue hardship, please contact Appliance Standards Program staff at (202) 586-1445 to discuss the need for alternative arrangements. Once the COVID-19 pandemic health emergency is resolved, DOE anticipates resuming all of its regular options for public comment submission, including postal mail and hand delivery/courier.

Docket: The docket for this activity, which includes Federal Register notices, comments, and other supporting documents/materials, is available for review at www.regulations.gov. All documents in the docket are listed in the www.regulations.gov index. However, some documents listed in the index, such as those containing information that is exempt from public disclosure, may not be publicly available.

The docket web page can be found at: www.regulations.gov/docket/EERE-2020-BT-TP-0012. The docket web page contains instructions on how to access all documents, including public comments, in the docket.

FOR FURTHER INFORMATION CONTACT:

Mr. Jeremy Dommu, U.S. Department of Energy, Office of Energy Efficiency and Renewable Energy, Building Technologies Office, EE-5B, 1000 Independence Avenue SW, Washington, DC 20585-0121. Telephone: (202) 586-9870. Email: ApplianceStandardsQuestions@ee.doe.gov.

Mr. Michael Kido, U.S. Department of Energy, Office of the General Counsel, GC-33, 1000 Independence Avenue SW, Washington, DC 20585-0121. Telephone: (202) 586-8145. Email: michael.kido@hq.doe.gov.

For further information on how to submit a comment or review other public comments and the docket contact the Appliance and Equipment Standards Program staff at (202) 287-1445 or by email: ApplianceStandardsQuestions@ee.doe.gov.

SUPPLEMENTARY INFORMATION: On November 23, 2021, the U.S. Department of Energy (“DOE”) published a notice of proposed rulemaking and request for comment proposing to amend the test procedures for battery chargers to improve test procedure representativeness. 86 FR 66878. The proposal would: Establish a new appendix Y1 that would expand coverage of inductive wireless battery chargers and establish associated definitions and test provisions; establish a new test procedure approach that relies on separate metrics for active mode, stand-by, and off-mode (consequently removing the battery charger usage profiles and unit energy consumption calculation); and update the wall adapter selection criteria. DOE also proposed changes to appendix Y to reorganize two subsections, to clarify symbology and references, to correct an incorrect cross reference and section title, to update the list of battery chemistries, and to terminate an existing test procedure waiver because the covered subject models have been discontinued. DOE further proposed to mirror these changes in the newly proposed appendix Y1. DOE is seeking comment from interested parties on the proposals. The document provided an opportunity for submitting written comments, data, and information by January 24, 2022.

On December 16, 2021, DOE received a joint request from the Association of Home Appliance Manufacturers, Consumer Technology Association, Information Technology Industry Council, National Electrical Manufacturers Association, Outdoor Power Equipment Institute, Plumbing Manufacturers Institute, and Power Tool Institute requesting a 30-day extension of the period comment period. These joint requesters noted that the comment period occurred during the Thanksgiving, Christmas, and New Years holidays and because of vacation schedules, it has been difficult to gather members for meetings to review the proposal and develop meaningful comment. The joint request also noted that additional time is needed to fully evaluate the significant and complex changes, including new metrics, being proposed and that the statutory deadline for battery chargers is not in danger of being missed. (Joint Requesters, No. 17 at p. 1).¹

¹ The parenthetical reference provides a reference to the comment extension request in DOE's rulemaking docket. (Docket No. EERE-2020-BT-TP-0012, which is maintained at www.regulations.gov/comment/EERE-2020-BT-TP-0012-0017). The references are arranged as follows: (Commenter name, comment docket ID number, page of that document).

DOE has reviewed the request from these interested parties and has decided to extend the comment period to allow additional time for interested parties to submit comments. DOE has determined that an extension of 14 days is sufficient for this stage of the rulemaking. Therefore, DOE is extending the comment period until February 7, 2022.

Signing Authority

This document of the Department of Energy was signed on December 28, 2021, by Kelly Speakes-Backman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 30, 2021.
Treena V. Garrett,
Federal Register Liaison Officer, U.S. Department of Energy.

[FR Doc. 2021-28542 Filed 1-6-22; 8:45 am]

BILLING CODE 6450-01-P